DEPARTMENT OF TRANSPORTATION

Federal Railroad Administration

[Docket No. FRA-2007-0023, Notice No. 1]

Federal Railroad Administration Review of the New Quiet Zone in Little Falls, MN

AGENCY: Federal Railroad Administration (FRA), Department of Transportation (DOT).

ACTION: Notice of quiet zone review.

SUMMARY: In accordance with 49 CFR 222.51(c), FRA is providing notice of its intent to review the New Quiet Zone that has been established in Little Falls, MN. According to recent quiet zone risk calculations, the Quiet Zone Risk Index (QZRI) for the New Quiet Zone in Little Falls has undergone a dramatic increase and is now at a level above the Risk Index With Horns (RIWH). As it appears that safety systems and measures implemented within the quiet zone do not fully compensate for the absence of the locomotive horn due to a substantial increase in risk, FRA intends to review existing conditions within the New Quiet Zone to determine whether the quiet zone should be terminated or whether additional safety measures may be necessary to ensure motorist safety.

DATES: Written Comments: Comments must be received by March 14, 2008. Comments received after this date will be considered to the extent possible without incurring additional expense or delay.

ADDRESSES: All communications concerning these proceedings should identify the appropriate docket number (Docket Number FRA-2007-0023) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Instructions: Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-19478), or you may visit http://DocketsInfo.dot.gov.

Docket: For access to the docket to read background documents or comments received, go to http://www.regulations.gov or the street address listed above. Follow the online instructions for accessing the dockets.

FOR FURTHER INFORMATION CONTACT: Mr. Ronald Ries, Office of Safety, FRA, 1200 New Jersey Avenue, SE., Washington, DC 20590 (telephone: 202-493-6299); or

Ms. Kathryn Shelton, Office of Chief Counsel, FRA, 1200 New Jersey Avenue, SE., Washington, DC 20590 (telephone: 202-493-6038).

SUPPLEMENTARY INFORMATION:

Background

The City of Little Falls established a New Quiet Zone for the following four highway-rail grade crossings through submission of a Notice of Quiet Zone Establishment:

1. 9th Avenue NW;

2. Broadway Avenue W;

3. Minnesota Power Company (a private highway-rail grade crossing); and

4. Highland Avenue (8th Avenue SE).

According to the Notice of Quiet Zone Establishment, which was dated October 24, 2006, this crossing corridor qualified for quiet zone status on the basis of having a QZRI that was below the RIWH. (The Notice of Quiet Zone Establishment indicated that the QZRI was 64,457 and that the RIWH was 69,396.) In other words, the Notice of Quiet Zone Establishment indicated that the City of Little Falls had taken sufficient measures to compensate for the excess risk that results from silencing routine train horn sounding at the four highway-rail grade crossings that were identified in the notice. Therefore, the Little Falls New Quiet Zone took effect on November 14, 2006.

Recent FRA Calculations

According to recent quiet zone calculations performed by FRA, the QZRI (i.e., the measure of risk to the motoring public at highway-rail grade crossings within the quiet zone) for the Little Falls New Quiet Zone has increased to 92,176. It appears that this increase in the quiet zone risk has been caused by several factors pertaining to the Broadway Avenue W Crossing, including increased highway traffic counts and a train/pedestrian incident that occurred at the crossing on September 9, 2006. This new QZRI is well over the RIWH that was used to establish the quiet zone.

Since the QZRI is now at a level above the RIWH (i.e., the measure of risk to the motoring public that would exist if locomotive horns were routinely sounded at every public highway-rail grade crossing within the quiet zone), it appears that safety systems and measures implemented within the New Quiet Zone in Little Falls fail to fully compensate for the absence of the locomotive horn. Therefore, FRA is initiating a review of existing conditions within the Little Falls New Quiet Zone, pursuant to 49 CFR 222.51(c), in order to determine whether the New Quiet Zone should be terminated or whether additional safety measures may be necessary to ensure motorist safety.

Interested parties are therefore invited to submit written comments on the Little Falls New Quiet Zone to the electronic docket. In particular, FRA is interested in obtaining information about any “near-hit” incidents involving train crews and motorists that may have occurred at the Broadway Avenue W Crossing during recent months, as well as information about the frequency with which crossing gate arms are being replaced due to motorist intrusion. FRA is also interested in obtaining information about any proposed safety improvements for the quiet zone that may be under serious consideration by the City of Little Falls. Please refer to the ADDRESSES section above for guidance on the submission of written comments to the electronic docket.

Issued in Washington, DC, on February 8, 2008.
Michael J. Logue,
Deputy Associate Administrator for Safety Compliance and Program Implementation.

[FR Doc. E8-2688 Filed 2-12-08; 8:45 am]

BILLING CODE 4910-06-P